DEPARTMENT OF HOMELAND SECURITY

Office of the Secretary

Privacy Act of 1974; System of Records

AGENCY: Privacy Office, DHS.

ACTION: Notice of removal of one Privacy Act system of records notice.

SUMMARY: In accordance with the Privacy Act of 1974, the Department of Homeland Security is giving notice that it will remove four systems of records notices from its inventory of record systems because Customs and Border Protection no longer requires the systems. The four obsolete systems are: Treasury/CS.197 Private Aircraft/Vessel Inspection Reporting System (October 18, 2001), Treasury/CS.252 Valuables Shipped Under the Government Losses in Shipment Act (October 18, 2001), Treasury/CS.171 Pacific Basin Reporting Network (October 18, 2001), and Treasury/CS.050 Community Leader Survey (October 18, 2001).

DATES: Effective Date: January 20, 2009.

FOR FURTHER INFORMATION CONTACT: Hugo Teufel III, Chief Privacy Officer, Department of Homeland Security, Washington, DC 20528, by telephone (703) 235-0780 or facsimile 1-866-466-5370.

SUPPLEMENTARY INFORMATION: Pursuant to the provisions of the Privacy Act of 1974, 5 U.S.C. 552a, and as part of its ongoing integration and management efforts, the Department of Homeland Security (DHS) is removing four Customs and Border Protection (CBP) system of records notices from its inventory of record systems.

DHS inherited these record systems upon its creation in January of 2003. Upon review of its inventory of systems of records, DHS has determined it no longer needs or uses these system of records and is retiring the following: Treasury/CS.197 Private Aircraft/Vessel Inspection Reporting System (66 FR 52984 October 18, 2001), Treasury/CS.252 Valuables Shipped Under the Government Losses in Shipment Act (66 FR 52984 October 18, 2001), Treasury/CS.171 Pacific Basin Reporting Network (66 FR 52984 October 18, 2001), and Treasury/CS.050 Community Leader Survey (66 FR 52984 October 18, 2001).

Treasury/CS.197 Private Aircraft/Vessel Inspection Reporting System was originally established to track and assist the U.S. Customs Service in managing pilots and vessel masters arriving in the United States, but is no longer operational.

Treasury/CS.252 Valuables Shipped Under the Government Losses in Shipment Act was originally established to track and assist the U.S. Customs Service in collecting and transmitting funds for deposit, but is no longer operational.

Treasury/CS.171 Pacific Basin Reporting Network was originally established to track and assist the U.S. Customs Service in managing masters, operators, pilots, crew members and passengers traveling, in, around, or through the Pacific Basin, but is no longer operational.

Treasury/CS.050 Community Leader Survey was originally established to track individuals and organizations that may be identified as occupying a community leadership role and in a position to furnish information or pose influence to equal employment opportunity, but is no longer operational.

Eliminating these systems of records notices will have no adverse impacts on individuals, but will promote the overall streamlining and management of DHS Privacy Act record systems.

Dated: December 10, 2008.
Hugo Teufel III,
Chief Privacy Officer, Department of Homeland Security.

[FR Doc. E8-29840 Filed 12-18-08; 8:45 am]

BILLING CODE 4410-10-P